DEPARTMENT OF TRANSPORTATION

Federal Aviation Administration

[Docket No. FAA-2021-0167]

Agency Information Collection Activities: Requests for Comments; Clearance of a Renewed Approval of Information Collection: Rotorcraft External Load Operator Certificate Application

AGENCY: Federal Aviation Administration (FAA), Transportation (DOT).

ACTION: Notice and request for comments.

SUMMARY: In accordance with the Paperwork Reduction Act of 1995, FAA invites public comments about our intention to request the Office of Management and Budget (OMB) approval to renew an information collection. The Federal Register Notice with a 60-day comment period soliciting comments on the following collection of information was published on February 26, 2021. The collection involves the submission of FAA Form 8710-4 for the certification process of rotorcraft external-load operators. The information to be collected is necessary to evaluate the applicants' qualifications for certification.

DATES: Written comments should be submitted by August 23, 2021.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Raymond Plessinger by email at: raymond.plessinger@faa.gov; phone: 717-443-7296.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0044.

Title: Rotorcraft External Load Operator Certificate Application.

Form Numbers: FAA Form 8710-4.

Type of Review: Renewal.

Background: The Federal Register Notice with a 60-day comment period soliciting comments on the following collection of information was published on February 26, 2021 (86 FR 11821). This collection involves the application for issuance or renewal of a 14 CFR part 133 Rotorcraft External Load Operator Certificate. Application for an original certificate or renewal of a certificate issued under 14 CFR part 133 is made on a form, and in a manner prescribed by the Administrator. The FAA form 8710-4 may be obtained from an FAA Flight Standards District Office, or online at https://www.faa.gov/documentLibrary/media/form/faa8710-4.pdf. The completed application is sent to the district office that has jurisdiction over the area in which the applicant's home base of operation is located.

The information collected includes: Type of application, Operator's name/DBAs, telephone number, mailing address, physical address of the principal base of operations, chief pilot/designee name, airman certificate grade and number, rotorcraft make/model registration numbers to be used and load combinations requested. In addition, this information collection includes requirements to report emergency operations, plans for operation over congested areas, and submission of flight manuals for approval, and recordkeeping requirements for certificates and crewmember testing and training records.

Respondents: 357 active part 133 certificate-holders.

Frequency: New applications when needed; current 14 CFR part 133 certificate-holders must renew every 24 months. Flight manuals are submitted as part of the application process, and plans for operation over congested areas are submitted as needed.

Estimated Average Burden per Response (by Section): Section 133.15, Application for Certificate Issuance or Renewal: 0.5 hours; Section 133.21, Personnel: 0.3 hours; Section 133.25, Amendment of Certificate: 0.5 hours; Section 133.27, Availability, transfer, and surrender of certificate: 0.5 hours; Section 133.31, Emergency Operations: 2 hours; Section 133.33, Operating Rules: 2 hours; Section 133.37, Crewmember training, currency, and testing requirements: 0.3 hours; Section 133.47, Rotorcraft Load Combination Flight Manual: 40 hours.

Estimated Total Annual Burden: 3,295 total hours per year, or 9.3 hours per respondent.

Issued in Washington, DC, on July 20, 2021.
Dwayne C. Morris,
Project Manager, Flight Standards Service, General Aviation and Commercial Division.

[FR Doc. 2021-15698 Filed 7-22-21; 8:45 am]

BILLING CODE 4910-13-P